DEPARTMENT OF JUSTICE

[OMB 1140-0055]

Agency Information Collection Activities; Proposed eCollection eComments Requested; Revision of a Previously Approved Collection; Title—Identifying/Marking Explosive Materials

AGENCY: Bureau of Alcohol, Tobacco, Firearms, and Explosives; Department of Justice.

ACTION: 60-Day notice.

SUMMARY: The Department of Justice (DOJ), Bureau of Alcohol, Tobacco, Firearms, and Explosives (ATF), will be submitting the following information collection request (ICR) to the Office of Management and Budget (OMB) for review and approval in accordance with the Paperwork Reduction Act of 1995.

DATES: ATF encourages comments on this information collection. You may submit written comments until midnight on January 27, 2026.

ADDRESSES: Submit written comments and recommendations for this information collection to Andy Stephenson, Explosives Enforcement Specialist, by email to andrew.stephenson@atf.gov, or by mail to 99 New York Ave. NE; Room 6.N.518; Washington, DC 20226. Identify comments by the OMB control number 1140-0055. You may view the proposed information collection instrument online at https://www.atf.gov/rules-and-regulations/federal-register-actions/forms-and-information-collection.

FOR FURTHER INFORMATION CONTACT: If you have additional comments, especially on the estimated public burden or associated response time, suggestions, or need a copy of the proposed information collection instrument with instructions or additional information, contact: Andy Stephenson, either by mail at EIPB, 99 New York Ave. NE; Room 6.N.518; Washington, DC 20226, by email at eipb-informationcollection@atf.gov, or by telephone at 207-272-5355.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: To protect the public from misuse of explosives, implementing regulations at 27 CFR 555.109 require licensees/permittees to mark certain explosives they manufacture or import, as well as mark immediate containers and outside packaging. The markings must include certain information and be clear and permanent, though they can be done via sticky label, marker, etc. Some types of explosives are too small or too fluid to be marked, or in a form that cannot be marked, and are therefore excepted from the marking requirements.

Overview of This Information Collection

1. Type of information collection: revision of a previously approved collection.

2. The title of the form/collection: Identifying/Marking Explosive Materials.

3. The agency form number, if any, and the applicable component of the Department sponsoring the collection: Form number: none.

Component: Bureau of Alcohol, Tobacco, Firearms, and Explosives; U.S. Department of Justice.

4. Affected public who will be asked or required to respond, as well as the obligation to respond: private sector for-profit institutions. The obligation to respond is mandatory per 27 CFR part 555.109.

5. An estimate of the total number of respondents and the amount of time estimated for an average respondent to respond: An estimated 103 respondents will respond to this collection 520 times annually, and it will take each respondent approximately 0.000834 (3 seconds) to complete their responses.

6. An estimate of the total annual burden (in hours) associated with the collection: The estimated annual public burden associated with this collection is 45 total hours, which is equal to 103 (total respondents) * 520 (# of responses per respondent) * 0.000834 (3 seconds).

7. An estimate of the total annual cost burden associated with the collection, if applicable: $0.

Estimated Annualized Respondent Cost and Hour Burden
[Rounded]
Activity | Number of respondents | Frequency (times/year) | Total annual responses | Time per response (hours) | Total annual burden (hours)
Marking explosive materials | 103 | 520 | 53,560 | 0.000834 | 45

Revisions to This Information Collection

This information collection, OMB control number 1140-0055, previously covered only manufacturer markings, and another information collection, 1140-0062, covered importer markings. However, to streamline the two information collections and eliminate redundancies that have evolved, ATF has decided to combine the two ICRs and has slightly revised the title to no longer limit it to manufacturers. ICR 1140-0055 is now the resulting combined ICR. In addition, the number of licensees/permittees in both groups has decreased a small amount since the last renewal for each ICR, for a combined decrease in licensees/permittees from 2,066 to 2,054, or a decrease of 12. In addition, ATF has updated the ICR to account for only the portion of these licensees/permittees that actually manufacture or import and distribute the kinds of explosives they are required to mark, which is five percent of the total licensees/permittees registered to manufacture or import, resulting in a further decrease in respondents affected by this information collection to 103 total. Consequently, the total responses and burden hours have also decreased due to the reduced number of respondents, from 895 hours to 45, or a reduction of 850 hours. In addition, due to a new request by OMB, the agency is including in the ICR a monetized value for the time, which it had not included in previous ICRs.

If additional information is required, contact: Darwin Arceo, Department Clearance Officer; United States Department of Justice; Justice Management Division, Enterprise Portfolio Management; Two Constitution Square, 145 N Street NE, 4W-218; Washington, DC.

Dated: November 25, 2025.
Darwin Arceo,
Department Clearance Officer for PRA, U.S. Department of Justice.

[FR Doc. 2025-21410 Filed 11-26-25; 8:45 am]

BILLING CODE 4410-FY-P